DEPARTMENT OF THE INTERIOR

National Park Service

Notice of Inventory Completion: U.S. Department of the Interior, Bureau of Indian Affairs, Washington, DC

AGENCY: National Park Service, Interior.

ACTION: Notice.

Notice is here given in accordance with the Native American Graves Protection and Repatriation Act (NAGPRA), 25 U.S.C. 3003, of the completion of an inventory of human remains in the control of the U.S. Department of the Interior, Bureau of Indian Affairs, Washington, DC. The human remains were removed from the vicinity of Fort Robinson, NE.

This notice is published as part of the National Park Service's administrative responsibilities under NAGPRA, 25 U.S.C. 3003 (d)(3). The determinations within this notice are the sole responsibility of the museum, institution, or Federal agency that has control of the Native American human remains. The National Park Service is not responsible for the determinations within this notice.

A detailed assessment of the human remains was made by Bureau of Indian Affairs professional staff in consultation with representatives of the Cheyenne-Arapaho Tribes of Oklahoma; Cheyenne River Sioux Tribe of the Cheyenne River Reservation, South Dakota; Crow Creek Sioux Tribe of the Crow Creek Reservation, South Dakota; Flandreau Santee Sioux Tribe of South Dakota; Lower Brule Sioux Tribe of the Lower Brule Reservation, South Dakota; Northern Cheyenne Tribe of the Northern Cheyenne Indian Reservation, Montana; Oglala Sioux Tribe of the Pine Ridge Reservation, South Dakota; Rosebud Sioux Tribe of the Rosebud Indian Reservation, South Dakota; Santee Sioux Tribe of the Santee Reservation of Nebraska; Sisseton-Wahpeton Sioux Tribe of the Lake Traverse Reservation, South Dakota; Spirit Lake Tribe, North Dakota; Standing Rock Sioux Tribe of North & South Dakota; and Yankton Sioux Tribe of South Dakota.

In 1879, human remains representing a minimum of one individual were recovered from the vicinity of Fort Robinson, Dawes and Sioux Counties, NE. Assistant Surgeon W.B. Brewster shipped the skull and mandible of the individual, along with the remains of eight other individuals, to the Army Medical Museum, Washington, DC, in 1880. At an unknown date, the human remains were acquired by Major General Joseph L. Bernier who had worked as a pathologist with the U.S. Army and had served several years cataloging the Army Medical Museum collections. Major General Bernier's son, Joseph Bernier, D.D.S., discovered the human remains in his father's personal effects and felt they should be returned to their homeland. In August 2002, Dr. Bernier donated the remains to the Bureau of Indian Affairs, Southern Plains Region, Concho Agency, El Reno, OK. The National Museum of Health and Medicine, formerly the Army Medical Museum, has been contacted regarding the human remains and has not asserted control over them. Accompanying the human remains is a weathered 1.5-by-4-inch card with the following typed information: “7023 Path. Series. Shot fracture and perforation of skull: one bullet entered thro [sic] right parietal, emerged thro [sic] left temporal; Cheyenne Indian, killed near Fort Robinson, Nebraska, January, 1879. W.B. Brewster, Asst. Surg. U.S.A.” On the back of the card was written in pencil: “D Knife.” No known individual was identified. No funerary objects are present.

The Bureau of Indian Affairs notified all Indian tribes that were likely to be culturally affiliated with the human remains or from whose aboriginal lands the human remains originated, including the Cheyenne-Arapaho Tribes of Oklahoma; Cheyenne River Sioux Tribe of the Cheyenne River Reservation, South Dakota; Crow Creek Sioux Tribe of the Crow Creek Reservation, South Dakota; Flandreau Santee Sioux Tribe of South Dakota; Lower Brule Sioux Tribe of the Lower Brule Reservation, South Dakota; Northern Cheyenne Tribe of the Northern Cheyenne Indian Reservation, Montana; Oglala Sioux Tribe of the Pine Ridge Reservation, South Dakota; Rosebud Sioux Tribe of the Rosebud Indian Reservation, South Dakota; Santee Sioux Tribe of the Santee Reservation of Nebraska; Sisseton-Wahpeton Sioux Tribe of the Lake Traverse Reservation, South Dakota; Spirit Lake Tribe, North Dakota; Standing Rock Sioux Tribe of North & South Dakota; and Yankton Sioux Tribe of South Dakota. The notification stated that the Bureau of Indian Affairs had the human remains under its control and was beginning the process of determining the cultural affiliation of the human remains.

Following consultation, representatives of the Cheyenne-Arapaho Tribes of Oklahoma and Northern Cheyenne Tribe of the Northern Cheyenne Indian Reservation, Montana agreed that the human remains and accompanying card should be examined by the staff of the Smithsonian Institution, National Museum of Natural History, Repatriation Office. A review of the Army Medical Museum archives, now part of the National Museum of Health and Medicine, indicates that Path. Series 7023 was assigned to a skull of a Cheyenne male who was killed near Fort Robinson in 1879. The skull identified as Path. Series 7023 is unaccounted for in the National Museum of Health and Medicine collection. The paper, typing, and format of the card accompanying the human remains is similar to cards typically used by the Army Medical Museum. The pencilled note on the back of the card may refer to Dull Knife, the Cheyenne leader of the Fort Robinson breakout on January 9, 1879. Dull Knife was nearly 70 years old at the time and survived the Fort Robinson breakout. Physical examination indicates that the human remains are from a 25-30-year-old male. The condition of the skull indicates that it was obtained shortly after death. Measurements of the skull are nearly identical to the measurements for Path. Series 7023 in the Army Medical Museum archives. Comparison of measurements from the skull with measurements from skulls from several Plains tribes indicates that the Cheyenne and Sioux are the most likely groups for biological affinity. A discriminant analysis of the measurements indicates that the skull is much more similar to the Sioux group, but a Cheyenne affiliation cannot be excluded. The human remains are currently in the possession of the Smithsonian Institution, National Museum of Natural History, Repatriation Office.

Representatives of the Cheyenne River Sioux Tribe of the Cheyenne River Reservation, South Dakota; Crow Creek Sioux Tribe of the Crow Creek Reservation, South Dakota; Flandreau Santee Sioux Tribe of South Dakota; Lower Brule Sioux Tribe of the Lower Brule Reservation, South Dakota; Oglala Sioux Tribe of the Pine Ridge Reservation, South Dakota; Rosebud Sioux Tribe of the Rosebud Indian Reservation, South Dakota; Santee Sioux Tribe of the Santee Reservation of Nebraska; Sisseton-Wahpeton Sioux Tribe of the Lake Traverse Reservation, South Dakota; Spirit Lake Tribe, North Dakota; Standing Rock Sioux Tribe of North & South Dakota; and Yankton Sioux Tribe of South Dakota have agreed to the repatriation of the human remains to the Cheyenne-Arapaho Tribes of Oklahoma and Northern Cheyenne Tribe of the Northern Cheyenne Indian Reservation, Montana.

Officials of the Bureau of Indian Affairs have determined that, pursuant to 25 U.S.C. 3001 (9-10), the human remains described above represent the physical remains of one individual of Native American ancestry. Officials of the Bureau of Indian Affairs have determined that, pursuant to 25 U.S.C. 3003 (d)(2)(B), there is a relationship of shared group identity that can be clearly traced between the Native American human remains and the Cheyenne-Arapaho Tribes of Oklahoma and Northern Cheyenne Tribe of the Northern Cheyenne Indian Reservation, Montana. Officials of the Bureau of Indian Affairs also have determined that, pursuant to 25 U.S.C. 3003 (d)(2)(C), there is a relationship of shared group identity that can be reasonably traced between the Native American human remains and the Cheyenne River Sioux Tribe of the Cheyenne River Reservation, South Dakota; Crow Creek Sioux Tribe of the Crow Creek Reservation, South Dakota; Flandreau Santee Sioux Tribe of South Dakota; Lower Brule Sioux Tribe of the Lower Brule Reservation, South Dakota; Oglala Sioux Tribe of the Pine Ridge Reservation, South Dakota; Rosebud Sioux Tribe of the Rosebud Indian Reservation, South Dakota; Santee Sioux Tribe of the Santee Reservation of Nebraska; Sisseton-Wahpeton Sioux Tribe of the Lake Traverse Reservation, South Dakota; Spirit Lake Tribe, North Dakota; Standing Rock Sioux Tribe of North & South Dakota; and Yankton Sioux Tribe of South Dakota.

Representatives of any other Indian tribe that believes itself to be culturally affiliated with the human remains should contact Carolyn McClellan, National Collections Manager and NAGPRA Coordinator, Bureau of Indian Affairs, 1849 C Street NW, MS-2472-MIB, Washington, DC, telephone (202) 208-4401, before March 1, 2004. Repatriation of the human remains to the Cheyenne-Arapaho Tribes of Oklahoma and Northern Cheyenne Tribe of the Northern Cheyenne Indian Reservation, Montana may proceed after that date if no additional claimants come forward.

The Bureau of Indian Affairs is responsible for notifying the Cheyenne-Arapaho Tribes of Oklahoma; Cheyenne River Sioux Tribe of the Cheyenne River Reservation, South Dakota; Crow Creek Sioux Tribe of the Crow Creek Reservation, South Dakota; Flandreau Santee Sioux Tribe of South Dakota; Lower Brule Sioux Tribe of the Lower Brule Reservation, South Dakota; Northern Cheyenne Tribe of the Northern Cheyenne Indian Reservation, Montana; Oglala Sioux Tribe of the Pine Ridge Reservation, South Dakota; Rosebud Sioux Tribe of the Rosebud Indian Reservation, South Dakota; Santee Sioux Tribe of the Santee Reservation of Nebraska; Sisseton-Wahpeton Sioux Tribe of the Lake Traverse Reservation, South Dakota; Spirit Lake Tribe, North Dakota; Standing Rock Sioux Tribe of North & South Dakota; and Yankton Sioux Tribe of South Dakota that this notice has been published.

Dated: December 8, 2003.
John Robbins,
Assistant Director, Cultural Resources.

[FR Doc. 04-1884 Filed 1-28-04; 8:45 am]

BILLING CODE 4310-50-S